DEPARTMENT OF TRANSPORTATION

Federal Aviation Administration

14 CFR Part 39

[Docket No. FAA-2005-21599; Directorate Identifier 2005-NM-036-AD; Amendment 39-14246; AD-2005-18-06]

RIN 2120-AA64

Airworthiness Directives; Bombardier Model CL-600-2B19 (Regional Jet Series 100 & 440) Airplanes

AGENCY: Federal Aviation Administration (FAA), Department of Transportation (DOT).

ACTION: Final rule.

SUMMARY: The FAA is superseding an existing airworthiness directive (AD), which applies to all Bombardier Model CL-600-2B19 series airplanes. That AD currently requires revising the airplane flight manual (AFM) to provide the flightcrew with operating limitations and procedures to enable them to maintain controllability of the airplane in the event that aileron control stiffness is encountered during flight. This new AD requires revising the Airworthiness Limitations section of the Instructions of Continued Airworthiness to incorporate certain repetitive tasks for the aileron control system and requires a briefing to advise flightcrews that certain aileron control checks are no longer required. After accomplishing the applicable initial tasks, the existing AFM revisions for the aileron control check may be removed from the AFM. This AD results from the development of terminating actions for the AFM revisions. We are issuing this AD to prevent aileron control stiffness during flight, which could result in reduced or possible loss of controllability of the airplane.

DATES: This AD becomes effective October 6, 2005.

The Director of the Federal Register approved the incorporation by reference of Canadair Regional Jet Temporary Revision 2B-2068, dated December 13, 2004, listed in the AD as of October 6, 2005.

The Director of the Federal Register approved the incorporation by reference of Canadair Regional Jet TR RJ/109-2, dated August 9, 2002, as of October 10, 2002 (67 FR 60117, September 25, 2002).

ADDRESSES: You may examine the AD docket on the Internet at http://dms.dot.gov or in person at the Docket Management Facility, U.S. Department of Transportation, 400 Seventh Street SW., Nassif Building, Room PL-401, Washington, DC.

Contact Bombardier, Inc., Canadair, Aerospace Group, P.O. Box 6087, Station Centre-ville, Montreal, Quebec H3C 3G9, Canada, for service information identified in this AD.

FOR FURTHER INFORMATION CONTACT: Dan Parillo, Aerospace Engineer, Systems and Flight Test Branch, ANE-172, FAA, New York Aircraft Certification Office, 1600 Stewart Avenue, Westbury, suite 410, New York 11590; telephone (516) 228-7305; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2002-19-07, amendment 39-12887 (67 FR 60117, September 25, 2002). The existing AD applies to all Bombardier Model CL-600-2B19 series airplanes. That NPRM was published in the Federal Register on June 22, 2005 (70 FR 36067). That NPRM proposed to retain the requirements of the existing AD (i.e., airplane flight manual (AFM) revisions). That NPRM also proposed to require revising the Airworthiness Limitations section of the Instructions of Continued Airworthiness to incorporate certain repetitive tasks for the aileron control system and briefing flightcrews that certain aileron control checks are no longer required. After accomplishing the applicable initial tasks, the existing AFM revisions for the aileron control check may be removed from the AFM.

Comments

We provided the public the opportunity to participate in the development of this AD. No comments have been received on the NPRM or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Parts | Cost per airplane | Number of U.S.-registered airplanes | Fleet cost
AFM revisions (required by AD 2002-19-07) | 1 | $65 | None | $65 | 727 | $47,255
Airworthiness Limitation revision (new action) | 1 | $65 | None | $65 | 727 | $47,255

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12887 (67 FR 60117, September 25, 2002) and by adding the following new airworthiness directive (AD):

2005-18-06 Bombardier, Inc. (Formerly Canadair): Amendment 39-14246. Docket No. FAA-2005-21599; Directorate Identifier 2005-NM-036-AD.

Effective Date

(a) This AD becomes effective October 6, 2005.

Affected ADs

(b) This AD supersedes AD 2002-19-07.

Applicability

(c) This AD applies to all Bombardier Model CL-600-2B19 (Regional Jet series 100 & 440) airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (m) of this AD. The request should include a description of changes to the required inspections that will ensure the continued damage tolerance of the affected structure. The FAA has provided guidance for this determination in Advisory Circular (AC) 25-1529.

Unsafe Condition

(d) This AD was prompted by the development of terminating actions for the airplane flight manual (AFM) revisions. We are issuing this AD to prevent aileron control stiffness during flight, which could result in the reduction or possible loss of controllability of the airplane.

Compliance

(e) You are responsible for having the actions required by this AD performed within the compliance times specified, unless the actions have already been done.

Requirements of AD 2002-19-07

AFM Revisions

(f) Within 14 days after October 10, 2002 (the effective date of AD 2002-19-07), insert the procedures for aileron system jams specified in Canadair Regional Jet Temporary Revision (TR) RJ/109-2, dated August 9, 2002, into the Emergency Procedures and Abnormal Procedures Sections, as applicable, of the FAA-approved Canadair Regional Jet AFM.

(g) Upon the accumulation of 5,000 total flight hours, or within 14 days after October 10, 2002, whichever occurs later, insert the procedures for the aileron control check specified in Canadair Regional Jet TR RJ/109-2, dated August 9, 2002, into the Limitations and Normal Procedures Sections, as applicable, of the Canadair Regional Jet AFM.

Note 2: The Limitations and Normal Procedures specified by paragraph (g) of this AD are required to be implemented only when an airplane has accumulated 5,000 total flight hours. However, individual pilots may operate other airplanes that have not yet accumulated 5,000 total flight hours, and that are not subject to those limitations and procedures. Therefore, to avoid any confusion or misunderstanding, it is important that airlines have communication mechanisms in place to ensure that pilots are aware, for each flight, whether the Limitations and Normal Procedures apply.

(h) When the information in Canadair Regional Jet TR RJ/109-2, dated August 9, 2002, of the Canadair Regional Jet AFM, has been incorporated into the FAA-approved general revisions of the AFM, the TR may be removed from the AFM.

New Actions Required by This AD

Revision of Airworthiness Limitations (AWL) Section

(i) Within 60 days after the effective date of this AD, revise the AWL section of the Instructions of Continued Airworthiness by incorporating the tasks specified in Table 1 of this AD and the corresponding “Task Threshold/Interval” of Canadair Regional Jet TR 2B-2068, dated December 13, 2004, into Appendix B—Airworthiness Limitations of Part 2 of Canadair Regional Jet Model CL-600-2B19 Maintenance Requirements Manual. Thereafter, except as provided in paragraph (m) of this AD, no alternative lubrication/replacement intervals may be approved for the aileron control system. After accomplishing the applicable initial tasks, the AFM revisions for the aileron control check required by paragraph (g) of this AD and allowed by paragraph (h) of this AD may be removed from the AFM.

Table 1.—Affected Task Numbers
Task No. | Description
(1) R22-11-A083-01 | Lubrication of aileron autopilot servo and servo mount engage clutch faces.
(2) R27-00-A053-01 | Replacement of aileron control pulleys with new or serviceable parts.
(3) R27-11-A082-01 | Lubrication of the aileron control cables at the wing pulley interfaces.
(4) R27-11-A082-02 | Lubrication of the aileron rear quadrant and trim lever bearings.

(j) For airplanes that have exceeded the task threshold for the new tasks specified in paragraph (i) of this AD as of the effective date of this AD: Do the initial tasks at the applicable “Phase-In” time specified in Canadiar Regional Jet TR 2B-2068, dated December 13, 2004; except where the TR specifies accomplishing the task no later than the applicable compliance time “from November 5, 2004,” this AD requires accomplishing the task within the applicable compliance time “after the effective date of this AD.”

(k) When the information in Canadair Regional Jet TR 2B-2068, dated December 13, 2004, is included in the general revisions of the maintenance requirements manual, this TR may be removed.

Flightcrew Briefing

(l) After accomplishing the applicable initial tasks required by paragraph (i) of this AD, brief flightcrews that there is no longer a requirement to perform aileron control checks following takeoff from a wet or contaminated runway.

Alternative Methods of Compliance (AMOCs)

(m) The Manager, New York Aircraft Certification Office, FAA, has the authority to approve AMOCs for this AD, if requested in accordance with the procedures found in 14 CFR 39.19.

Related Information

(n) Canadian airworthiness directive CF-2002-35R2, issued January 6, 2005, also addresses the subject of this AD.

Material Incorporated by Reference

(o) You must use Canadair Regional Jet TR RJ/109-2, dated August 9, 2002; and Canadair Regional Jet Temporary Revision 2B-2068, dated December 13, 2004, to the Canadair Regional Jet Model CL-600-2B19 Maintenance Requirements Manual; as applicable; to perform the actions that are required by this AD, unless the AD specifies otherwise.

(1) The Director of the Federal Register approved the incorporation by reference of Canadair Regional Jet Temporary Revision 2B-2068, dated December 13, 2004, in accordance with 5 U.S.C. 552(a) and 1 CFR part 51.

(2) The Director of the Federal Register approved the incorporation by reference of Canadair Regional Jet TR RJ/109-2, dated August 9, 2002, as of October 10, 2002 (67 FR 60117, September 25, 2002).

(3) Contact Bombardier, Inc., Canadair, Aerospace Group, P.O. Box 6087, Station Centreville, Montreal, Quebec H3C 3G9, Canada, for a copy of this service information. You may review copies at the Docket Management Facility, U.S. Department of Transportation, 400 Seventh Street SW., room PL-401, Nassif Building, Washington, DC; on the internet at http://dms.dot.gov; or at the National Archives and Records Administration (NARA). For information on the availability of this material at the NARA, call (202) 741-6030, or go to http://www.archives.gov/federal_register/code_of_federal_regulations/ibr_locations.html.

Issued in Renton, Washington, on August 24, 2005.
Ali Bahrami,
Manager, Transport Airplane Directorate, Aircraft Certification Service.

[FR Doc. 05-17333 Filed 8-31-05; 8:45 am]

BILLING CODE 4910-13-P